DEPARTMENT OF DEFENSE

Department of the Army

Board of Visitors, United States Military Academy (USMA BoV)

AGENCY: Department of the Army, DoD.

ACTION: Notice of open Federal Advisory Committee meeting: in person.

SUMMARY: Under the provisions of the Federal Advisory Committee Act of 1972, the Government in the Sunshine Act of 1976, the Department of Defense announces that the following Federal advisory committee meeting will take place.

DATES: The meeting will be held on Tuesday, March 11, 2025, 9 a.m.-12 p.m. Members of the public wishing to attend the meeting will be required to show a government photo ID upon entering in order to gain access to the meeting location. All members of the public are subject to security screening.

ADDRESSES: The meeting will be held in the Caucus Room, Cannon House Office Building, 27 Independence Avenue SE, Washington, DC 20003.

FOR FURTHER INFORMATION CONTACT: Mr. David Nagle, the Designated Federal Officer for the committee, in writing at: Secretary of the General Staff, United States Military Academy ATTN: David Nagle, 646 Swift Road, West Point, NY 10996; by email at: david.nagle@westpoint.edu or BoV@westpoint.edu; or by telephone at (845) 938-3716.

SUPPLEMENTARY INFORMATION: The committee meeting is being held under the provisions of the Federal Advisory Committee Act of 1972 (5 U.S.C., appendix, as amended), the Government in the Sunshine Act of 1976 (5 U.S.C. 552b, as amended), and 41 CFR 102-3.150. The USMA BoV provides independent advice and recommendations to the President of the United States on matters related to morale, discipline, curriculum, instruction, physical equipment, fiscal affairs, academic methods, and any other matters relating to the Academy that the Board decides to consider.

Purpose of the Meeting: This is the 2025 Organizational Meeting of the USMA BoV. Members of the Board will be provided updates on Academy issues. Agenda: Introduction; Board Business: Election of Chair and Vice Chair for 2025, Swearing in of Presidential Appointees, Approval of the 2025 Rules of the US Military Academy Board of Visitors, Approval of the Minutes from the November 2024 BoV Meeting, select Summer 2025 meeting date; Open Discussion; and Academy Update.

Public's Accessibility to the Meeting: Pursuant to 5 U.S.C. 552b and 41 CFR 102-3.140 through 102-3.165 and subject to the availability of space, this meeting is open to the public. Seating is on a first to arrive basis. Attendees are requested to submit their name, affiliation, and daytime phone number seven business days prior to the meeting to Mr. Nagle, via electronic mail, the preferred mode of submission, at the address listed in the FOR FURTHER INFORMATION CONTACT section. Pursuant to 41 CFR 102-3.140d, the committee is not obligated to allow a member of the public to speak or otherwise address the committee during the meeting, and members of the public attending the committee meeting will not be permitted to present questions from the floor or speak to any issue under consideration by the committee. Because the committee meeting will be held in a Federal Government facility security screening is required. A DoD government photo ID is required to enter the installation. Members of the public wishing to attend should contact Mr. Nagle for instructions to enter the building.

Written Comments or Statements: Pursuant to 41 CFR 102-3.105(j) and 102-3.140 and section 10(a)(3) of the Federal Advisory Committee Act, the public or interested organizations may submit written comments or statements to the committee, in response to the stated agenda of the open meeting or in regard to the committee's mission in general. Written comments or statements should be submitted to Mr. Nagle, the committee Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Official at least seven business days prior to the meeting to be considered by the committee. The Designated Federal Official will review all timely submitted written comments or statements with the committee Chairperson and ensure the comments are provided to all members of the committee before the meeting. Written comments or statements received after this date may not be provided to the committee until its next meeting.

Pursuant to 41 CFR 102-3.140d, the committee is not obligated to allow a member of the public to speak or otherwise address the committee during the meeting. However, the committee Designated Federal Official and Chairperson may choose to invite certain submitters to present their comments verbally during the open portion of this meeting or at a future meeting. The Designated Federal Officer, in consultation with the committee Chairperson, may allot a specific amount of time for submitters to present their comments verbally.

James W. Satterwhite Jr.,
Army Federal Register Liaison Officer.

[FR Doc. 2025-02503 Filed 2-11-25; 8:45 am]

BILLING CODE 3711-CC-P